DEPARTMENT OF JUSTICE

Antitrust Division

Notice Pursuant to the National Cooperative Research and Production Act of 1993—The Storage Networking Industry Association

Notice is hereby given that, on September 16, 2004, pursuant to section 6(a) of the National Cooperative Research and Production Act of 1993, 15 U.S.C. 4301 et seq. (“the Act”), The Storage Networking Industry Association (“SNIA”) has filed written notifications simultaneously with the Attorney General and the Federal Trade Commission disclosing (1) the name and principal place of business of the standards development organization and (2) the nature and scope of its standards development activities. The notifications were filed for the purpose of invoking the Act provisions limiting the recovery of antitrust plaintiffs to actual damages under specified circumstances.

Pursuant to section 6(b) of the Act, the name and principal place of business of the standards development organization is: The Storage Networking Industry Association, San Francisco, CA. The nature and scope of SNIA's standards development activities are: Identifying interoperability issues and developing solutions for the interoperability of storage and networking systems and technologies; and developing specifications, infrastructure and proposed standards for storage networking systems and technologies.

Dorothy B. Fountain,
Deputy Director of Operations Antitrust Division.

[FR Doc. 04-24574 Filed 11-2-04; 8:45 am]

BILLING CODE 4410-11-M